DEPARTMENT OF EDUCATION

Applications for New Awards; Indian Education Discretionary Grants Programs—Native American Language Resource Centers Program

AGENCY: Office of Elementary and Secondary Education, Department of Education.

ACTION: Notice.

SUMMARY: The Department of Education (Department) is issuing a notice inviting applications (NIA) for fiscal year (FY) 2023 for the Native American Language Resource Centers (NALRC) Program, Assistance Listing Number 84.415C. This notice relates to the approved information collection under OMB control number 1894-0006.

DATES:

Applications Available: June 7, 2023.

Deadline for Notice of Intent to Apply: June 27, 2023.

Date of Pre-Application Webinar: June 22, 2023.

Deadline for Transmittal of Applications: July 27, 2023.

Deadline for Intergovernmental Review: August 28, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Donna Sabis-Burns, U.S. Department of Education, 400 Maryland Avenue SW, Room 3W203, Washington, DC 20202. Telephone: 202-213-9014. Email: Donna.Sabis-Burns@ed.gov.

If you are deaf, hard of hearing, or have a speech disability and wish to access telecommunications relay services, please dial 7-1-1.

SUPPLEMENTARY INFORMATION:

Full Text of Announcement

I. Funding Opportunity Description

Purpose of Program: The purpose of this program, which further aligns resources provided by the Department with the policies in the Native American Languages Act (NALA), 25 U.S.C. 2901 et seq., is to support establishing, strengthening, and operating one or more Native American language resource centers.

Background: Congress recently emphasized the need to support the use of Native American languages as a medium of instruction for a variety of age levels, academic content areas, and types of schools, including Native American language medium education by passing the Native American Language Resource Center Act of 2022 (NALRCA) (20 U.S.C. 7457). According to a 2011 U.S. Census American Community Survey (ACS), it is estimated that during 2006-2010 there were fewer than 372,095 Native language speakers in the United States.¹ One out of every four Native students, in fourth or eighth grade, has had no exposure to a Native American language.²

¹ United States Census Bureau. Native North American Languages Spoken at Home in the United States and Puerto Rico: 2006-2010. U.S. Census Bureau's American Community Survey Office, 2011. https://www2.census.gov/library/publications/2011/acs/acsbr10-10.pdf.

² U.S. Department of Education, Institute of Education Sciences, National Center for Education Statistics, National Assessment of Educational Progress (NAEP), 2019 National Indian Education Study.

The NALRC Program supports projects that will preserve, protect, and promote the rights and freedom of Native Americans to use, practice, and develop Native American languages in furtherance of the policies in NALA and the United States trust responsibility to Tribal Nations. Native American language resource centers supported by the NALRC Program will be staffed by individuals with relevant expertise and experience, including staff who speak American Indian, Alaska Native, or Native Hawaiian languages and have worked in Native language education in a preschool, elementary school, secondary school, adult education, or higher education program. For FY 2023, this competition includes two absolute priorities, one for regional centers and one for a national center, to advance policies set forth in NALA, including the rights of Native Americans to express themselves through Native American languages in any public proceeding, including publicly supported education programs. 25 U.S.C. 2904. This competition also includes a competitive preference priority for projects that are led by a Tribal college or university (TCU).

Tribal Consultation: This competition was informed by Tribal consultation with elected Tribal leaders or their officially designated proxies. The Department held a virtual Tribal consultation on January 10, 2023, and announced the opportunity through various external community listservs.

The Department requested input from Tribal Nations on whether the program should be administered through a contractual agreement or grant competition. The majority of Tribal leaders favored using contractual agreements, depending on the functions of the NALRC Program. Other Tribal leaders noted potential inequities in grant competitions because some Tribal Nations have greater access to high-quality grant writers. After considering the comments received, the Department will administer the program through a grant competition and may convert awards to cooperative agreements at any point if the grantee agrees. This competition includes a competitive preference priority for TCU lead applicants to address Tribal leader concerns regarding access to high-quality grant writers.

The Department requested input from Tribal Nations on what priorities would strengthen implementation of the program. The majority of Tribal leaders expressed the importance of regional representation of Native language needs and that such needs must inform the work of the NALRC Program. Other Tribal leaders also expressed the need for the NALRC Program to advance the purpose of NALA and support immersion schools where Native language is used as a medium of instruction. A consortium representing 33 Tribal Nations provided written comments recommending that program administration be designed in an equitable and regional manner. In response to the comments received, the Department has incorporated two absolute priorities to advance the authorized activities outlined in the NALRCA, including a priority for the implementation of regional centers.

The Department requested input from Tribal Nations on how the Department can better ensure resource coordination and avoid duplication of effort across the Federal government. The majority of Tribal leaders expressed that the Department should carefully consider existing research and promising practices to ensure Tribal Nations have access to meaningful resources. Other Tribal leaders expressed that ongoing communication with Native language practitioners is paramount to ensure emergent programs can benefit from the experiences of existing programs.

Priorities: This notice includes two absolute priorities and one competitive preference priority. We are establishing these priorities in accordance with section 437(d)(1) of the General Education Provisions Act (GEPA), 20 U.S.C. 1232(d)(1).

Absolute Priorities: For FY 2023 and any subsequent year in which we make awards from the list of unfunded applications from this competition, these priorities are absolute priorities. Under 34 CFR 75.105(c)(3), we consider only applications that meet Absolute Priority 1 or Absolute Priority 2.

The Secretary intends to create two funding slates for NALRC Program applications—one for applications that meet Absolute Priority 1 and one for applications that meet Absolute Priority 2. As a result, the Secretary may fund applications out of the overall rank order, but the Secretary is not bound to do so.

Note: The Department prefers that an eligible entity apply for either the National Center or a Regional Center. The Department will, however, consider multiple, separate applications from one entity applying for one or more Regional Centers and the National Center as long as the entity submits a separate application for each Center. If an applicant submits multiple applications that fall within the funding range, after review and comparison of those applications, the Department may choose not to fund all applications that propose using the same project personnel or providing the same services as other fundable applications.

These priorities are:

Absolute Priority 1: Regional Centers.

To meet this priority, applicants must propose a regional Native American language resource center that supports the provision of high-quality capacity-building services to Tribal clients and recipients to identify, implement, and sustain effective programs, practices, and interventions that—

(a) Encourage and support the use of Native American languages within educational systems in the same manner as other world languages, including by encouraging State educational agencies, local educational agencies, and institutions of higher education (IHEs) to offer Native American language courses for the same full academic credit as courses in other world languages;

(b) Support the development, adoption, and use of assessments, qualifications, and processes based on promising practices in Native American language medium education;

(c) Provide technical assistance to Native American language programs seeking other Federal resources; and

(d) Provide technical assistance to Native American communities and school systems to support the development of Native American language medium education programs in preschool, elementary school, secondary school, or adult education programs.

In a single application, an applicant must propose to operate a Regional Center in one and only one of the following regions:

1. Appalachia (Kentucky, Tennessee, Virginia, and West Virginia).

2. Central (Colorado, Kansas, Missouri, Nebraska, North Dakota, South Dakota, and Wyoming).

3. Mid-Atlantic (Delaware, District of Columbia, Maryland, New Jersey, and Pennsylvania).

4. Midwest (Illinois, Indiana, Iowa, Michigan, Minnesota, Ohio, and Wisconsin).

5. Northeast and Islands (Connecticut, Massachusetts, Maine, New Hampshire, New York, Puerto Rico, Rhode Island, Vermont, and the Virgin Islands).

6. Northwest (Alaska, Idaho, Montana, Oregon, and Washington).

7. Pacific (American Samoa, Commonwealth of the Northern Mariana Islands, Federated States of Micronesia, Guam, Hawaii, Palau, and Republic of the Marshall Islands).

8. Southeast (Alabama, Florida, Georgia, Mississippi, North Carolina, and South Carolina).

9. Southwest (Arkansas, Louisiana, New Mexico, Oklahoma, and Texas).

10. West (Arizona, California, Nevada, and Utah).

Note: To ensure geographic diversity, the Department will not fund more than one project that proposes to serve clientele in a single region.

Absolute Priority 2: National Center.

To meet this priority, an applicant must propose a project that supports a National Center that will provide high-quality capacity-building services to Regional Centers, other Department-funded technical assistance centers, Tribal clients and recipients, and IHEs, including TCUs, to identify, implement, and sustain effective programs, practices, and interventions that—

(a) Encourage and support educator preparation programs, as well as appropriate alternative pathways to teacher certification, that prepare teachers to teach Native American languages and to use Native American languages as a medium of instruction, including by disseminating promising practices and developing pedagogical programming;

(b) Provide information and resources on promising practices in—

(1) The use and revitalization of Native American languages in Native American communities, including use in educational institutions; and

(2) The use of technology in school and community-based Native American language programs to support the retention, use, and teaching of Native American languages;

(c) Support the use of distance learning technologies in Native American language acquisition and related training for parents, students, teachers, and learning support staff associated with Native American language programs, including through—

(1) The compilation and curation of digital libraries and other online resources for Native American languages, except that any materials collected by the center may only be materials provided by a Native American language program or Native American community;

(2) The development of optional distance learning curricula appropriate for preschool, elementary school, secondary school, adult education, and postsecondary education; and

(3) Pedagogical training for Native American language teachers; and

(d) Support regional centers, Native American language programs, and Native American communities in—

(1) Accessing international best practices, resources, and research in indigenous language revitalization; and

(2) Gathering and sharing technical assistance, promising practices, and experiences.

Competitive Preference Priority: For FY 2023 and any subsequent year in which we make awards from the list of unfunded applications from this competition, this priority is a competitive preference priority. Under 34 CFR 75.105(c)(2)(i), we award up to an additional 2 points to an application that meets the competitive preference priority.

This priority is:

Tribal College or University Lead Applicants (0 or 2 points).

To meet this priority, an application must be submitted by a TCU (as defined in this notice) that is eligible to participate in the NALRC Program. A consortium application that is submitted in accordance with 34 CFR 75.127-129 is eligible to receive the preference only if the lead applicant for the consortium is the TCU.

Application Requirements: For FY 2023 and any subsequent year in which we make awards from the list of unfunded applications from this competition, applicants must meet the following application requirements. Application Requirement 1 is from the NALRCA, and we are establishing Application Requirement 2 in accordance with section 437(d)(1) of GEPA.

Each applicant must—

1. Native Language Expertise Assurance. Include an assurance that the proposed center will be staffed by individuals with relevant expertise and experience, including staff who speak American Indian and Alaska Native languages and the Native Hawaiian language and have worked in language education in the American Indian and Alaska Native languages and the Native Hawaiian language in a preschool, elementary school, secondary school, adult education, or higher education program.

2. Description of Program Requirements. Describe how the proposed project will meet the program requirements.

Program Requirements: We are establishing these requirements for the FY 2023 grant competition and any subsequent year in which we make awards from the list of unfunded applications from this competition, in accordance with section 437(d)(1) of GEPA. For FY 2023 and any subsequent year in which we make awards from the list of unfunded applications from this competition, grantees must adhere to the following program requirements.

Applicants under either absolute priority must carry out activities to:

(a) Improve the capacity to teach and learn Native American languages;

(b) Further Native American language use and acquisition;

(c) Preserve, protect, and promote the rights and freedom of Native Americans to use, practice, and develop Native American languages in furtherance of—

(1) The policies set forth in the Native American Languages Act (25 U.S.C. 2901 et seq.); and

(2) The United States trust responsibility to Native American communities;

(d) Address the effects of past discrimination and ongoing inequities experienced by Native American language speakers;

(e) Support the revitalization and reclamation of Native American languages;

(f) Support the use of Native American languages as a medium of instruction for a wide variety of age levels, academic content areas, and types of schools, including Native American language medium education; and

(g) Support the operation of intensive programs, including summer institutes, to train Native American language speakers, to provide professional development, and to improve Native American language instruction through preservice and in-service language training for teachers.

ISDEAA Statutory Hiring Preference:

(a) Awards that are primarily for the benefit of Indians are subject to the provisions of section 7(b) of the Indian Self-Determination and Education Assistance Act (Pub. L. 93-638) (ISDEAA). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts, subcontracts, and subgrants, in connection with the administration of the grant.

(b) For purposes of this preference, an Indian is a member of any federally recognized Indian Tribe.

Definitions: The terms “elementary school,” “local educational agency,” “secondary school,” and “State educational agency” are from section 8101 of the Elementary and Secondary Education Act of 1965, as amended (ESEA) (20 U.S.C. 7801). The terms “Native American” and “Native American language” are from section 103 of the Native American Languages Act. The term “institution of higher education” is from section 101 of the Higher Education Act of 1965, as amended (HEA). The term “Tribal College or University” is from section 316(b)(3) of the HEA.

Elementary school means a nonprofit institutional day or residential school, including a public elementary charter school, that provides elementary education, as determined under State law.

Institution of higher education means an educational institution in any State that—

(a) Admits as regular students only persons having a certificate of graduation from a school providing secondary education, or the recognized equivalent of such a certificate, or persons who meet the requirements of 20 U.S.C. 1091(d);

(b) Is legally authorized within such State to provide a program of education beyond secondary education;

(c) Provides an educational program for which the institution awards a bachelor's degree or provides not less than a 2-year program that is acceptable for full credit toward such a degree, or awards a degree that is acceptable for admission to a graduate or professional degree program, subject to review and approval by the Secretary;

(d) Is a public or other nonprofit institution; and

(e) Is accredited by a nationally recognized accrediting agency or association, or if not so accredited, is an institution that has been granted preaccreditation status by such an agency or association that has been recognized by the Secretary for the granting of preaccreditation status, and the Secretary has determined that there is satisfactory assurance that the institution will meet the accreditation standards of such an agency or association within a reasonable time.

Local educational agency—

(a) In General. The term “local educational agency” means a public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the local educational agency receiving assistance under the ESEA with the smallest student population, except that the school shall not be subject to the jurisdiction of any State educational agency other than the Bureau of Indian Education.

(d) Educational Service Agencies. The term includes educational service agencies and consortia of those agencies.

(e) State Educational Agency. The term includes the State educational agency in a State in which the State educational agency is the sole educational agency for all public schools.

Native American means an Indian, Native Hawaiian, or Native American Pacific Islander. For purposes of this definition, the term “Indian” has the meaning given to such term under 20 U.S.C. 7491(3).

Native American language means the historical, traditional languages spoken by Native Americans.

Secondary school means a nonprofit institutional day or residential school, including a public secondary charter school, that provides secondary education, as determined under State law, except that the term does not include any education beyond grade 12.

State educational agency means the agency primarily responsible for the State supervision of public elementary schools and secondary schools.

Tribal College or University means an institution that—

(a) Qualifies for funding under the Tribally Controlled Colleges and Universities Assistance Act of 1978 (25 U.S.C. 1801 et seq.) or the Navajo Community College Act (25 U.S.C. 640a note); or

(b) Is cited in section 532 of the Equity in Educational Land-Grant Status Act of 1994 (7 U.S.C. 301 note).

Program Authority: 20 U.S.C. 7451; 20 U.S.C. 7457.

Note: Projects will be awarded and must be operated in a manner consistent with the nondiscrimination requirements contained in Federal civil rights laws.

Waiver of Proposed Rulemaking: Under the Administrative Procedure Act (5 U.S.C. 553), the Department generally offers interested parties the opportunity to comment on proposed priorities, requirements, definitions, and selection criteria. Section 437(d)(1) of GEPA, however, allows the Secretary to exempt from rulemaking requirements, regulations governing the first grant competition under a new or substantially revised program authority. This is the first grant competition for the NALRC Program under the NALRCA, and therefore qualifies for this exemption. The Secretary has decided to forgo public comment under the waiver authority in section 437(d)(1) of GEPA in order to ensure timely grant awards.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to IHEs only.

II. Award Information

Type of Award: Discretionary grants/cooperative agreements.

Note: Pursuant to 34 CFR 75.262, when making continuation awards in any year, the Department may convert these grants into cooperative agreements. The Department may also convert awards to cooperative agreements at any point if the grantee agrees.

Estimated Available Funds: $2,900,000.

Contingent upon the availability of funds and the quality of applications, we may make additional awards in future years from the list of unfunded applications from this competition.

Estimated Range of Awards:

For a Regional Center, $250,000-$350,000 per year.

For a National Center, $1,000,000-$1,300,000 per year.

Estimated Average Size of Awards:

For a Regional Center, $300,000 per year.

For a National Center, $1,150,000 per year.

Estimated Number of Awards: 6-7. The Department intends to support 5-6 Regional Centers under this competition. One award will support the National Center.

Note: The Department is not bound by any estimates in this notice.

Note: As noted above, to ensure geographic diversity, the Department will not fund more than one project that proposes to serve clientele in a single region (as described in Absolute Priority 1).

Project Period: Up to 60 months.

III. Eligibility Information

1. Eligible Applicants: The following entities are eligible to apply under this competition:

(a) An institution of higher education (as defined in this notice);

(b) An entity within an institution of higher education with dedicated expertise in Native American language and culture education; or

(c) A consortium that includes one or more entities described in paragraph (a), or one or more entities described in paragraph (b).

2. a. Cost Sharing or Matching: This program does not require cost sharing or matching.

b. Indirect Cost Rate Information: This program uses a training indirect cost rate. This limits indirect cost reimbursement to an entity's actual indirect costs, as determined in its negotiated indirect cost rate agreement, or 8 percent of a modified total direct cost base, whichever amount is less. For more information regarding training indirect cost rates, see 34 CFR 75.562. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations, professional organizations, or businesses. The grantee may award subgrants to entities it has identified in the approved application or that it selects through a competition under procedures established by the grantee.

4. a. Reasonable and Necessary Costs: Applicants must ensure that all costs included in the proposed budget are reasonable and necessary to meet the goals and objectives of the proposed project. Any costs determined by the Secretary to be unreasonable or unnecessary will be removed from the final approved budget.

b. Audits: (i) A non-Federal entity that expends $750,000 or more during the non-Federal entity's fiscal year in Federal awards must have a single or program-specific audit conducted for that year in accordance with the provisions of 2 CFR part 200. (2 CFR 200.501(a))

(ii) A non-Federal entity that expends less than $750,000 during the non-Federal entity's fiscal year in Federal awards is exempt from Federal audit requirements for that year, except as noted in 2 CFR 200.503 (Relation to Other Audit Requirements), but records must be available for review or audit by appropriate officials of the Federal agency, pass-through entity, and Government Accountability Office (GAO). (2 CFR 200.501(d)).

IV. Application and Submission Information

1. Application Submission Instructions: Applicants are required to follow the Common Instructions for Applicants to Department of Education Discretionary Grant Programs, published in the Federal Register on December 7, 2022 (87 FR 7504), and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for the NALRC Program grant competition, your application may include business information that you consider proprietary. In 34 CFR 5.11 we define “business information” and describe the process we use in determining whether any of that information is proprietary and, thus, protected from disclosure under Exemption 4 of the Freedom of Information Act (5 U.S.C. 552, as amended). Because we plan to post on our website a selection of funded abstracts and applications' narrative sections, you may wish to request confidentiality of business information.

Consistent with Executive Order 12600, please designate in your application any information that you believe is exempt from disclosure under Exemption 4. In the appropriate appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program. Please note that, under 34 CFR 79.8(a), we have shortened the standard 60-day intergovernmental review period in order to make awards by the end of FY 2023.

4. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative. An application will not be disqualified if it exceeds the recommended page limit.

5. Notice of Intent to Apply: The Department will be able to review grant applications more efficiently if we know the approximate number of applicants that intend to apply and the region they represent. Therefore, we strongly encourage each potential applicant to notify us of their intent to submit an application. To do so, please email the program contact person listed under FOR FURTHER INFORMATION CONTACT with the subject line “Intent to Apply,” and include the applicant's name, a contact person's name and email address, and the region they represent. Applicants that do not submit a notice of intent to apply may still apply for funding; applicants that do submit a notice of intent to apply are not bound to apply or bound by the information provided.

6. Award Basis: In determining whether to approve a grant award and the amount of such award, the Department will take into consideration, among other things, the applicant's performance and use of funds under a previous or existing award under any Department program (34 CFR 75.217(d)(3)(ii) and 75.233(b)). In assessing the applicant's performance and use of funds under a previous or existing award, the Secretary will consider, among other things, the outcomes the applicant has achieved and the results of any Departmental grant monitoring, including the applicant's progress in remedying any deficiencies identified in such monitoring.

V. Application Review Information

1. Selection Criteria: The selection criteria for this competition are from 34 CFR 75.210. The source of each selection criterion, and the maximum score for addressing each criterion and factor within each criterion, is included in parentheses. The maximum score for these criteria is 100 points. The maximum score for each criterion is included in parentheses following the title of the specific selection criterion. Each criterion also includes the factors that reviewers will consider in determining the extent to which an applicant meets the criterion. Taken together with the competitive preference priority, an applicant can receive up to a total of 102 points.

The selection criteria are as follows:

(a) Need for project (6 points).

The Secretary considers the need for the proposed project. In determining the need for the proposed project, the Secretary considers the following factors:

(1) The extent to which specific gaps or weaknesses in services, infrastructure, or opportunities have been identified and will be addressed by the proposed project, including the nature and magnitude of those gaps or weaknesses. (Up to 3 points)

(2) The extent to which the proposed project will prepare personnel for fields in which shortages have been demonstrated. (Up to 3 points)

(b) Quality of project design (36 points).

The Secretary considers the quality of the design of the proposed project. In determining the quality of the design of the proposed project, the Secretary considers the following factors:

(1) The extent to which the goals, objectives, and outcomes to be achieved by the proposed project are clearly specified and measurable. (Up to 12 points)

(2) The extent to which the design of the proposed project is appropriate to, and will successfully address, the needs of the target population or other identified needs. (Up to 6 points)

(3) The extent to which performance feedback and continuous improvement are integral to the design of the proposed project. (Up to 6 points)

(4) The extent to which the design of the proposed project reflects up-to-date knowledge from research and effective practice. (Up to 12 points)

(c) Quality of project services (13 points).

The Secretary considers the quality of the project services. In determining the quality of the services to be provided by the proposed project, the Secretary considers the quality and sufficiency of strategies for ensuring equal access and treatment for eligible project participants who are members of groups that have traditionally been underrepresented based on race, color, national origin, gender, age, or disability. (Up to 2 points)

In addition, the Secretary considers the following factors:

(1) The extent to which the services to be provided by the proposed project reflect up-to-date knowledge from research and effective practice. (Up to 7 points)

(2) The extent to which the services to be provided by the proposed project involve the collaboration of appropriate partners for maximizing the effectiveness of project services. (Up to 4 points)

(d) Quality of project personnel (12 points).

The Secretary considers the quality of the personnel who will carry out the proposed project. In determining the quality of project personnel, the Secretary considers the extent to which the applicant encourages applications for employment from persons who are members of groups that have traditionally been underrepresented based on race, color, national origin, gender, age, or disability. (Up to 2 points)

In addition, the Secretary considers the following factors:

(1) The qualifications, including relevant training and experience, of the project director or principal investigator. (Up to 5 points)

(2) The qualifications, including relevant training and experience, of key project personnel. (Up to 5 points)

(e) Adequacy of resources (8 points).

The Secretary considers the adequacy of resources for the proposed project. In determining the adequacy of resources for the proposed project, the Secretary considers the following factors:

(1) The extent to which the budget is adequate to support the proposed project. (Up to 4 points)

(2) The extent to which the costs are reasonable in relation to the objectives, design, and potential significance of the proposed project. (Up to 4 points)

(f) Quality of the management plan (15 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks. (Up to 5 points)

(2) The adequacy of mechanisms for ensuring high-quality products and services from the proposed project. (Up to 5 points)

(3) The adequacy of procedures for ensuring feedback and continuous improvement in the operation of the proposed project. (Up to 5 points)

(g) Quality of the project evaluation (10 points).

The Secretary considers the quality of the evaluation to be conducted of the proposed project. In determining the quality of the evaluation, the Secretary considers the following factors:

(1) The extent to which the methods of evaluation are thorough, feasible, and appropriate to the goals, objectives, and outcomes of the proposed project. (Up to 5 points)

(2) The extent to which the evaluation will provide guidance about effective strategies suitable for replication or testing in other settings. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

For the FY 2023 NALRC Program competition, all applications will be assigned to peer review panels. The Department will select applications for funding consideration based on their ranking in the competition.

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170, should you receive funding under the competition. This does not apply if you have an exception under 2 CFR 170.110(b).

(b) At the end of your project period, you must submit a final performance report, including financial information, as directed by the Secretary. If you receive a multiyear award, you must submit an annual performance report that provides the most current performance and financial expenditure information as directed by the Secretary in 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. If a grantee is provided additional funding for this purpose, the Secretary establishes a data collection period.

Note: Consistent with 2 CFR 200.315(b) and other applicable law, the Department may make reports, deliverables, outputs, or materials produced by the Native American Language Resource Centers publicly available and may request that the Native American Language Resource Centers disseminate reports, deliverables, outputs, or materials to a wide audience (e.g., through their websites, social media, or other public-facing channels).

5. Performance Measures: The following measures have been established for the purpose of Department reporting under 34 CFR 75.110 and will be used to evaluate the success of the NALRC Program:

(a) The percentage of the annual measurable objectives, as described in the application, that are met by grantees;

(b) The annual increase in the number of Tribes supported; and

(c) The annual increase in the number of languages supported.

These measures constitute the Department's indicators of success for this program. Consequently, we advise an applicant for a grant under this program to carefully consider these measures in conceptualizing the approach to, and evaluation for, its proposed project. Each grantee will be required to provide, in its annual performance and final reports, data about its progress in meeting these measures.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James F. Lane,
Principal Deputy Assistant Secretary, Delegated the Authority to Perform the Functions and Duties of the Assistant Secretary, Office of Elementary and Secondary Education.

[FR Doc. 2023-12166 Filed 6-6-23; 8:45 am]

BILLING CODE 4000-01-P